SMALL BUSINESS ADMINISTRATION

[Declaration of Disaster #3454]

State of South Carolina

Clarendon and Georgetown Counties and the contiguous counties of Berkeley, Calhoun, Charleston, Florence, Horry, Marion, Orangeburg, Sumter and Williamsburg in the State of South Carolina constitute a disaster area due to damages caused by flooding and tornadoes from Tropical Storm Kyle on October 11, 2002. Applications for loans for physical damage as a result of this disaster may be filed until the close of business on December 20, 2002, and for economic injury until the close of business on July 21, 2003, at the address listed below or other locally announced locations:

U.S. Small Business Administration, Disaster Area 2 Office, One Baltimore Place, Suite 300, Atlanta, GA 30308.

The interest rates are:

| Percent
For Physical Damage:
Homeowners with credit available elsewhere | 6.625
Homeowners without credit available elsewhere | 3.312
Businesses with credit available elsewhere | 7.000
Businesses and non-profit organizations without credit available elsewhere | 3.500
Others (including non-profit organizations) with credit available elsewhere | 6.375
For Economic Injury:
Businesses and small agricultural cooperatives without credit available elsewhere | 3.500

The number assigned to this disaster for physical damage is 345406 and for economic damage is 9R9800.

(Catalog of Federal Domestic Assistance Program Nos. 59002 and 59008)
Dated: October 21, 2002.
Hector V. Barreto,
Administrator.

[FR Doc. 02-27357 Filed 10-25-02; 8:45 am]

BILLING CODE 8025-01-P